DEPARTMENT OF THE TREASURY

Office of Foreign Assets Control

Additional Designations, Foreign Narcotics Kingpin Designation Act

AGENCY: Office of Foreign Assets Control, Treasury.

ACTION: Notice.

SUMMARY: The U.S. Department of the Treasury's Office of Foreign Assets Control (“OFAC”) is publishing the names of three individuals and one entity whose property and interests in property have been blocked pursuant to the Foreign Narcotics Kingpin Designation Act (“Kingpin Act”) (21 U.S.C. 1901-1908, 8 U.S.C. 1182). In addition, OFAC is publishing an addition to the identifying information for one individual previously designated pursuant to the Kingpin Act.

DATES: The designation by the Director of OFAC of the three individuals and one entity identified in this notice pursuant to section 805(b) of the Kingpin Act is effective on December 12, 2012.

FOR FURTHER INFORMATION CONTACT: Assistant Director, Sanctions Compliance & Evaluation, Office of Foreign Assets Control, U.S. Department of the Treasury, Washington, DC 20220, Tel: (202) 622-2490.

SUPPLEMENTARY INFORMATION:

Electronic and Facsimile Availability

This document and additional information concerning OFAC are available on OFAC's Web site at http://www.treasury.gov/ofac or via facsimile through a 24-hour fax-on-demand service at (202) 622-0077.

Background

The Kingpin Act became law on December 3, 1999. The Kingpin Act establishes a program targeting the activities of significant foreign narcotics traffickers and their organizations on a worldwide basis. It provides a statutory framework for the imposition of sanctions against significant foreign narcotics traffickers and their organizations on a worldwide basis, with the objective of denying their businesses and agents access to the U.S. financial system and the benefits of trade and transactions involving U.S. companies and individuals.

The Kingpin Act blocks all property and interests in property, subject to U.S. jurisdiction, owned or controlled by significant foreign narcotics traffickers as identified by the President. In addition, the Secretary of the Treasury, in consultation with the Attorney General, the Director of the Central Intelligence Agency, the Director of the Federal Bureau of Investigation, the Administrator of the Drug Enforcement Administration, the Secretary of Defense, the Secretary of State, and the Secretary of Homeland Security may designate and block the property and interests in property, subject to U.S. jurisdiction, of persons who are found to be: (1) Materially assisting in, or providing financial or technological support for or to, or providing goods or services in support of, the international narcotics trafficking activities of a person designated pursuant to the Kingpin Act; (2) owned, controlled, or directed by, or acting for or on behalf of, a person designated pursuant to the Kingpin Act; or (3) playing a significant role in international narcotics trafficking.

On December 12, 2012, the Director of OFAC designated the following three individuals and one entity whose property and interests in property are blocked pursuant to section 805(b) of the Kingpin Act.

Individuals

1. ESQUERRA ESQUER, Jorge Enrique; DOB 25 Mar 1980; POB Culiacan, Sinaloa, Mexico; C.U.R.P. EUEJ800325HSLSSR02 (Mexico) (individual) [SDNTK] (Linked To: GRUPO CINJAB, S.A. DE C.V.; Linked To: GRUPO IMPERGOZA, S.A. DE C.V.).

2. ESTRADA GUTIERREZ, Julio Cesar, Calle Platon 268, Col. Paso Blanco, Ocotlan, Jalisco, Mexico; DOB 03 Oct 1981; POB Ocotlan, Jalisco, Mexico (individual) [SDNTK] (Linked To: GRUPO CINJAB, S.A. DE C.V.; Linked To: GRUPO IMPERGOZA, S.A. DE C.V.).

3. LEON SANTIESTEBAN, Carlos Alberto; DOB 14 Oct 1970; POB Navolato, Sinaloa, Mexico; R.F.C. LESC701014JM6 (Mexico); C.U.R.P. LESC701014HSLNNR08 (Mexico) (individual) [SDNTK] (Linked To: ESTACIONES DE SERVICIOS CANARIAS, S.A. DE C.V.; Linked To: GASODIESEL Y SERVICIOS ANCONA, S.A. DE C.V.; Linked To: GASOLINERA ALAMOS COUNTRY, S.A. DE C.V.; Linked To: GASOLINERA Y SERVICIOS VILLABONITA, S.A. DE C.V.; Linked To: PETROBARRANCOS, S.A. DE C.V.; Linked To: SERVICIOS CHULAVISTA, S.A. DE C.V.).

Entity

1. DESARROLLOS EVEREST, S.A. DE C.V. (a.k.a. RESIDENCIAL DEL LAGO), Cerrada Diego Rivera No. 347, Col. Desarrollo Urbano 3 Rios, Culiacan, Sinaloa C.P. 80020, Mexico; Blvd. Jose Diego Valadez Rios 94 36, Col. Proyecto Tres Rios, Culiacan, Sinaloa C.P. 80100, Mexico; R.F.C. DEV-031020 (Mexico) [SDNTK].

In addition, OFAC is publishing an addition to the identifying information for the following individual previously designated pursuant to the Kingpin Act.

1. GASTELUM PAYAN, Maria Guadalupe, Avenida Camino a la Tijera No. 806, Fraccionamiento La Tijera, Tlajomulco de Zuniga, Jalisco, Mexico; Calle Chichen Itza No. 4644, Colonia Mirador del Sol, Zapopan, Jalisco C.P. 45054, Mexico; Calle Morelos No. 2223, Colonia Arcos Vallarta, Guadalajara, Jalisco C.P. 44130, Mexico; DOB 30 Aug 1949; POB Pericos, Sinaloa, Mexico; R.F.C. GAPG4908307H1 (Mexico); C.U.R.P. GAPG490830MSLSYD06 (Mexico) (individual) [SDNTK] (Linked To: GRUPO IMPERGOZA, S.A. DE C.V.).

The listing for this individual now appears as follows:

1. GASTELUM PAYAN, Maria Guadalupe, Avenida Camino a la Tijera No. 806, Fraccionamiento La Tijera, Tlajomulco de Zuniga, Jalisco, Mexico; Calle Chichen Itza No. 4644, Colonia Mirador del Sol, Zapopan, Jalisco C.P. 45054, Mexico; Calle Morelos No. 2223, Colonia Arcos Vallarta, Guadalajara, Jalisco C.P. 44130, Mexico; DOB 30 Aug 1949; POB Pericos, Sinaloa, Mexico; R.F.C. GAPG4908307H1 (Mexico); C.U.R.P. GAPG490830MSLSYD06 (Mexico) (individual) [SDNTK] (Linked To: GRUPO IMPERGOZA, S.A. DE C.V.; Linked To: DESARROLLOS EVEREST, S.A. DE C.V.).

Dated: December 12, 2012.
Adam J. Szubin,
Director, Office of Foreign Assets Control.

[FR Doc. 2012-30424 Filed 12-17-12; 8:45 am]

BILLING CODE 4810-AL-P